NUCLEAR REGULATORY COMMISSION

[Docket No. 72-22-ISFSI, ASLBP No. 97-732-02-ISFSI]

Private Fuel Storage, L.L.C.; Notice of Reconstitution

Pursuant to 10 C.F.R. 2.721, the Atomic Safety and Licensing Board in the above captioned Private Fuel Storage, L.L.C. proceeding is hereby reconstituted by appointing a Licensing Board consisting of Administrative Judge Michael C. Farrar, Chairman; Administrative Judge Jerry R. Kline; and Administrative Judge Peter Lam, which shall have jurisdiction over all pending and future matters in this proceeding,¹ with the exception of those matters relating to contention Utah E/Confederated Tribes F, Financial Assurance, contention Utah S, Decommissioning, and/or contention Security-J, Law Enforcement. With respect to pending or future matters regarding contention Utah E/Confederated Tribes F, contention Utah S, and/or contention Security-J, the Licensing Board consisting of Administrative Judge G. Paul Bollwerk, III, Chairman, and Administrative Judges Kline and Lam will retain jurisdiction for all purposes.

¹ At the request of the Licensing Board chaired by Judge Bollwerk, Judge Farrar has been reviewing pending matters in this proceeding in conjunction with Judges Kline and Lam. The Licensing Board of which Judge Farrar is Chairman anticipates issuing a number of rulings on pending matters in the near future.

In accordance with 10 C.F.R. 2.701, all correspondence, documents, and other material relating to any matter in this proceeding should continue to be served on Judges Kline and Lam. All correspondence, documents and, other material relating to any matter other than contention Utah E/Confederated Tribes F, contention Utah S, and/or contention Security-J shall be served on Administrative Judge Farrar as follows: Administrative Judge Michael C. Farrar, Atomic Safety and Licensing Board Panel, U.S. Nuclear Regulatory Commission, Washington, DC 20555-0001.

Hereafter, only correspondence, documents, and other material relating to any matter concerning contention Utah E/Confederated Tribes F, contention Utah S, and/or contention Security-J should continue to be served on Administrative Judge Bollwerk.

Issued at Rockville, Maryland, this nineteenth day of December 2001.
G. Paul Bollwerk III,
Chief Administrative Judge, Atomic Safety and Licensing Board Panel.

[FR Doc. 01-31922 Filed 12-27-01; 8:45 am]

BILLING CODE 7590-01-P